FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 28, 2008.

A. Federal Reserve Bank of Kansas City (Todd Offenbacker, Assistant Vice President) 1 Memorial Drive, Kansas City, Missouri 64198-0001:

1. J. Robert Young, Carbondale, Colorado, individually and as a voting trustee of the Alpine Banks of Colorado Employee Stock Ownership Plan and 401K (ESOP) to acquire control of; and by J. Robert Young, Margo L. Young-Gardey and Lindsay D. Nash, both of Glenwood Springs, Colorado, as members of a family group acting in concert, to acquire control of Alpine Banks of Colorado, parent of Alpine Bank, both in Glenwood Springs, Colorado, through the retention of voting shares.

Board of Governors of the Federal Reserve System, May 8, 2008.
Margaret McCloskey Shanks,
Associate Secretary of the Board.

[FR Doc. E8-10638 Filed 5-12-08; 8:45 am]

BILLING CODE 6210-01-S